DEPARTMENT OF ENERGY

Federal Energy Regulatory Commission

Combined Notice of Filings #1

Take notice that the Commission received the following electric rate filings:

Docket Numbers: ER16-1871-000.

Applicants: Southern California Edison Company.

Description: Section 205(d) Rate Filing: Amended LGIA RE Astoria LLC, RE Astoria 2 LLC—Revised Added Facilities Rate to be effective 4/11/2016.

Filed Date: 6/3/16.

Accession Number: 20160603-5120.

Comments Due: 5 p.m. ET 6/24/16.

Docket Numbers: ER16-1872-000.

Applicants: Marshall Solar, LLC.

Description: Baseline eTariff Filing: Marshall Solar, LLC Application for Market-Based Rates to be effective 8/2/2016.

Filed Date: 6/3/16.

Accession Number: 20160603-5124.

Comments Due: 5 p.m. ET 6/24/16.

Docket Numbers: ER16-1873-000.

Applicants: Southern California Edison Company.

Description: Section 205(d) Rate Filing: GIA & Distribution Service Agreement Desert Water Agency Whitewater Project to be effective 6/1/2016.

Filed Date: 6/3/16.

Accession Number: 20160603-5135.

Comments Due: 5 p.m. ET 6/24/16.

Docket Numbers: ER16-1874-000.

Applicants: ISO New England Inc., New England Power Pool Participants Committee.

Description: Section 205(d) Rate Filing: Revisions to Financial Statements Reporting Requirements under the FAP to be effective 8/5/2016.

Filed Date: 6/3/16.

Accession Number: 20160603-5150.

Comments Due: 5 p.m. ET 6/24/16.

Docket Numbers: ER16-1875-000.

Applicants: Hydro Renewable Energy Inc.

Description: Baseline eTariff Filing: Hydro Renewables MBR Tariff Filing to be effective 8/2/2016.

Filed Date: 6/3/16.

Accession Number: 20160603-5154.

Comments Due: 5 p.m. ET 6/24/16.

Docket Numbers: ER16-1876-000.

Applicants: PacifiCorp.

Description: Section 205(d) Rate Filing: Lower Valley Energy ? Ancillary Services Agreement to be effective 8/3/2016.

Filed Date: 6/3/16.

Accession Number: 20160603-5167.

Comments Due: 5 p.m. ET 6/24/16.

Docket Numbers: ER16-1877-000.

Applicants: Arizona Public Service Company.

Description: Section 205(d) Rate Filing: FERC Electric Tariff Volume 5 Revision to be effective 8/3/2016.

Filed Date: 6/3/16.

Accession Number: 20160603-5204.

Comments Due: 5 p.m. ET 6/24/16.

Docket Numbers: ER16-1878-000.

Applicants: Ringer Hill Wind, LLC.

Description: Baseline eTariff Filing: Ringer Hill Wind, LLC FERC Electric Tariff, Original Baseline to be effective 9/16/2016.

Filed Date: 6/3/16.

Accession Number: 20160603-5221.

Comments Due: 5 p.m. ET 6/24/16.

Take notice that the Commission received the following electric reliability filings.

Docket Numbers: RD16-7-000.

Applicants: North American Electric Reliability Corporation.

Description: Petition of the North American Electric Reliability Corporation for Approval of Six NERC Glossary Definitions and Request for Shortened Response Period and Expedited Action.

Filed Date: 6/3/16.

Accession Number: 20160602-5480.

Comments Due: 5 p.m. ET 6/17/16.

Docket Numbers: RD16-7-000.

Applicants: North American Electric Reliability Corporation.

Description: Errata to the Petition of the North American Electric Reliability Corporation for Approval of Six NERC Glossary Definitions and Request for Shortened Response Period and Expedited Action.

Filed Date: 6/3/16.

Accession Number: 20160603-5203.

Comments Due: 5 p.m. ET 6/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2016.
Nathaniel J. Davis, Sr.,
Deputy Secretary.

[FR Doc. 2016-13959 Filed 6-13-16; 8:45 am]

BILLING CODE 6717-01-P